DEPARTMENT OF HEALTH AND HUMAN SERVICES

Agency for Healthcare Research and Quality

Correction To A Notice of Meetings

With this Notice, AHRQ is publishing a correction to the following “Study Section” meetings published in the Federal Register on September 15, 2005, Volume 70, Number 178, Page 54558, see also http://a257.g.akamaitech.net/7/257/2422/01jan20051800/edocket.access.gpo.gov/2005/05-18388.htm, reflect correct dates:

• Name of Subcommittee: Health Research Dissemination and Implementation.

• Date: October 20, 2005.

• Name of Subcommittee: Health Care Technology and Decision Sciences.

• Date: October 27, 2005.

• Name of Subcommittee: Health Care Quality and Effectiveness Research.

• Date: October 28, 2005.

Dated: September 30. 2005.
Carolyn M. Clancy,
Director.

[FR Doc. 05-20250 Filed 10-6-05; 8:45 am]

BILLING CODE 4160-90-M